DEPARTMENT OF COMMERCE

Census Bureau

[Docket No.: 050617160-5160-01]

Privacy Act of 1974: System of Records

AGENCY: Department of Commerce.

ACTION: Notice of Amendment of Privacy System of Records: COMMERCE/CENSUS-5, Population and Housing Census Records of the 2000 Census.

SUMMARY: In accordance with the Privacy Act of 1974, as amended, 5 U.S.C. 552a(e)(4) and (11), the Department of Commerce is issuing notice of intent to amend the system of records under COMMERCE/CENSUS-5, Population and Housing Census Records of the 2000 Census; update administrative information.

DATES: To be considered, written comments must be submitted on or before August 10, 2005. Unless comments are received, the amendments to the system of records will become effective as proposed on the date of publication of a subsequent notice in the Federal Register.

FOR FURTHER INFORMATION CONTACT: Gerald W. Gates, Chief Privacy Officer, U.S. Census Bureau, Washington, DC 20233, 301-763-2515.

SUPPLEMENTARY INFORMATION: Pursuant to Title 13 U.S.C, Section 141, the U.S. Census Bureau has conducted the 2000 Census. The amendment updates administrative information concerning the locations of the system files, the categories of individuals covered by the system, the categories of records in the system, the purpose of the system of records, retrievability, safeguards, and the disposal of the records in the system in addition to other minor administrative updates. Accordingly, the Population and Housing Census Records of the 1960 and Subsequent Censuses system notice originally published at 45 FR 82105, December 12, 1980, is amended by the addition of the following updates.

The Department of Commerce finds no probable or potential effect of the proposal on the privacy of individuals. Respondent data including personally identifying data are captured as images suitable for computer processing. Images are scheduled for permanent retention. Original data sources are destroyed, according to the disposal procedures for Title 13 (“census confidential”) records, after confirmation of successful data capture and data transmission to headquarters. The Individual Census Record File (ICRF) represents a unified record of individual responses, including all names and other written entries provided by the respondent, and all associated address and geographic information for each housing unit or person living in group quarters. The ICRF is scheduled for permanent retention. This notice is not subject to the notice and comment requirements of the Administrative Procedure Act. 5 U.S.C. Section 553(a)(2). This notice is exempt from review under Executive Order 12866.

COMMERCE/CENSUS-5

System Name:

Insert “ Including Preliminary Statistics for the 2010 Decennial Census” after “2000 Census.”

Security Classification:

None.

System Location: *

Categories of Individuals Covered by the System:

After “in 2000.” remove “.” add “, subsequent Test Censuses, and the 2004 Overseas Enumeration Test. Participation in decennial censuses and test censuses is mandatory.”

Categories of Records in the System:

After “All,” add “Census 2000”; after “tenure.” add “For Census 2000,”; after “care-givers;” add “place of work and journey to work;” After “farm residence);” add “vehicles available;”; After “voluntary.” insert the following text: “Test census records may contain the following items: name, address, telephone number, age, sex relationship, race, Hispanic origin, housing tenure, number of persons in the household, number of persons in the household not permanent residents, and whether residents sometimes live somewhere else. Records for the 2004 Overseas Enumeration Test, which include U.S. citizens living in France, Kuwait, and Mexico, may contain for every person in the household the following items: name, relationship to others in the household, age, sex, race, and Hispanic origin. Additionally, they also may contain citizenship, stateside address, social security number, passport number, and the person's primary activity. Records for the respondent answering for the household also may include foreign address and telephone number for the household residence and the number of persons living in the residence as of April 1, 2004.”

Authority for Maintenance of the System:

After 13 U.S.C. 141 add “and 193.”

Purpose(s):

Delete and replace with the following language:

“The Census 2000 records are maintained to undertake methodological evaluations leading to an improved 2010 census, and to undertake linkages with survey and administrative data for statistical projects authorized by the Census Bureau. Also, the records in this system of records are used to provide official census transcripts of the results to the named person(s), their heirs, or legal representatives, as authorized by Title 13, U.S.C., section 8, and described in the system of records notice Commerce/Census-6. These records also are provided to the National Archives and Records Administration as authorized by Title 44, Chapter 33. The purposes of maintaining the records for the Test Censuses are to evaluate methodologies for data collection and coverage for subsequent decennial censuses. The purpose of maintaining the 2004 Overseas Enumeration Test records is to evaluate the feasibility of enumerating American citizens in the 2010 decennial census residing overseas.”

Routine Uses of Records Maintained in the System, Including Categories of Users and the Purposes of Such Uses:

After “Sections” delete “8,”

Policies and Practices for Storing, Retrieving, Accessing, Retaining, and Disposing of Records in the System:

Storage: *

Retrievability: *

Safeguards: *

Retention and Disposal:

Add “For Census 2000,” before respondent data; after “The ICRF is scheduled for permanent retention.” add “Test census data collection, data capture, and data processing records are destroyed when two years old or when no longer needed for program or evaluation purposes, whichever is later.

All individually-identifiable data files for information collected in France, Kuwait, and Mexico will be destroyed within 12 months of the close of data collection.”

System Manager(s) and Address: *

Notification Procedure: *

Records Access Procedures: *

Contesting Records Procedures: *

Records Source Categories: *

Exemptions Claimed for the System:

After “identifiable individual.” add “This exemption is made in accordance with the Department's rules which appear in 15 CFR part 4 subpart B.”

* Indicates that there are no changes to that paragraph of the notice.
Dated: July 5, 2005.
Brenda Dolan,
Departmental Freedom of Information and Privacy Act Officer.

[FR Doc. 05-13580 Filed 7-8-05; 8:45 am]

BILLING CODE 3510-07-P